DEPARTMENT OF COMMERCE

National Oceanic and Atmospheric Administration

50 CFR Part 635

[Docket No. 230419-0106]

RIN 0648-BI10

Atlantic Highly Migratory Species; 2006 Consolidated Highly Migratory Species Fishery Management Plan; Amendment 15

AGENCY: National Marine Fisheries Service (NMFS), National Oceanic and Atmospheric Administration (NOAA), Commerce.

ACTION: Proposed rule; extension of comment period; notice of rescheduled public hearing.

SUMMARY: On May 5, 2023, NMFS published the proposed rule for Draft Amendment 15 to the 2006 Consolidated Highly Migratory Species (HMS) Fishery Management Plan (FMP) regarding spatial fisheries management and electronic monitoring (EM) cost allocation. In the proposed rule, NMFS announced a comment period ending on September 15, 2023. Due to requests from multiple constituents, NMFS is extending the comment period for this action to October 2, 2023. Furthermore, NMFS canceled the Amendment 15 public hearing originally scheduled for August 29, 2023, in Panama City, Florida due to Hurricane Idalia and reschedules it for September 18, 2023.

DATES: The comment period on Draft Amendment 15 to the 2006 Consolidated HMS FMP has been extended from September 15, 2023, as published on May 5, 2023 (88 FR 29050), to October 2, 2023. The Amendment 15 public hearing originally scheduled on August 29, 2023 is rescheduled for September 18, 2023. See SUPPLEMENTARY INFORMATION for the meeting date and time.

ADDRESSES: You may submit comments on the proposed rule, as published on May 5, 2023 (88 FR 29050), identified by “NOAA-NMFS-2019-0035,” by electronic submission. Submit all electronic public comments via the Federal e-Rulemaking Portal. Go to https://www.regulations.gov/docket/NOAA-NMFS-2019-0035, click the “Comment” icon, complete the required fields, and enter or attach your comments. Comments sent by any other method, to any other address or individual, or received after the close of the comment period, may not be considered by NMFS. All comments received are a part of the public record and generally will be posted for public viewing on https://www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only. Written comments regarding the burden-hour estimates or other aspects of the collection-of-information requirements contained in this proposed rule may also be submitted via https://www.reginfo.gov/public/do/PRAMain. Find this particular information collection by selecting “Currently under Review—Open for Public Comments” or by using the search function.

The location of the rescheduled Amendment 15 public hearing has not changed. The Amendment 15 public hearing will be held in Panama City, FL. See SUPPLEMENTARY INFORMATION for the meeting date and time.

Copies of the supporting documents—including the draft environmental impact statement (DEIS), Regulatory Impact Review (RIR), Initial Regulatory Flexibility Analysis (IRFA), the Three-Year Review of the IBQ Program, and the 2006 Consolidated HMS FMP and amendments are available from the HMS website at https://www.fisheries.noaa.gov/topic/atlantic-highly-migratory-species or by contacting Steve Durkee (steve.durkee@noaa.gov).

FOR FURTHER INFORMATION CONTACT: Steve Durkee (steve.durkee@noaa.gov), Larry Redd, Jr. (larry.redd@noaa.gov), or Karyl Brewster-Geisz (karyl.brewster-geisz@noaa.gov) at 301-427-8503.

SUPPLEMENTARY INFORMATION: On May 5, 2023, NMFS published a proposed rule (88 FR 29050) for Draft Amendment 15 to the 2006 Consolidated HMS FMP. Draft Amendment 15 and its proposed rule considers changes to Atlantic HMS fishery management measures regarding four commercial longline spatial management areas and the administration and funding of the HMS pelagic longline EM program. In the proposed rule, NMFS announced a 133-day comment period ending on September 15, 2023. During the public comment period, NMFS received requests from multiple constituent groups, including the Billfish Foundation and Blue Water Fishermen's Association, to extend the public comment period. Constituents noted the complexity and length of the Amendment and the use of a spatial modeling tool, HMS Predictive Spatial Modeling (PRiSM), as reasons for needing more time to read, understand, and provide relevant public comments. Furthermore, forecasted impacts from Hurricane Idalia necessitated canceling a previously scheduled public hearing in Panama City, Florida. The extended comment period provides additional time to the hold the rescheduled hearing. After considering the request, NMFS has determined that it is reasonable to extend the comment period to allow sufficient time for HMS Advisory Panel members and other constituents to fully consider the analyses, data, and conclusions relevant to the proposed management measures and to allow additional opportunities for public comment. Therefore, NMFS is extending the comment period until October 2, 2023, for a total of 150 days for public input on the proposed rule. Comments received during the comment period will assist NMFS in determining final management measures, consistent with the Magnuson-Stevens Fishery Conservation and Management Act, the Atlantic Tunas Convention Act, and the 2006 Consolidated HMS FMP.

Due to forecasted impacts from Hurricane Idalia, NMFS canceled the Amendment 15 public hearing originally scheduled for August 29, 2023 in Panama City, FL. NMFS has rescheduled the Amendment 15 public hearing at the same location on September 18, 2023 (Table 1).

Table 1—Dates, Times, and Locations of Upcoming Public Hearings and Conference Calls
Venue | Date/time | Street address/webinar information
Public Hearing | September 18, 2023, 5 p.m.-8 p.m | National Marine Fisheries Service, Southeast Fisheries Science Center, 3500 Delwood Beach Road, Panama City, FL 32408.

Authority: 16 U.S.C. 971 et seq.; 16 U.S.C. 1801 et seq.

Dated: September 1, 2023.
Samuel D. Rauch, III,
Deputy Assistant Administrator for Regulatory Programs, National Marine Fisheries Service.

[FR Doc. 2023-19400 Filed 9-5-23; 4:15 pm]

BILLING CODE 3510-22-P